DEPARTMENT OF TRANSPORTATION

Federal Aviation Administration

14 CFR Part 39

[Docket No. FAA-2014-0617; Directorate Identifier 2014-CE-019-AD; Amendment 39-17962; AD 2014-17-09

RIN 2120-AA64

Airworthiness Directives; Various de Havilland Airplanes

AGENCY: Federal Aviation Administration (FAA), DOT.

ACTION: Final rule; request for comments.

SUMMARY: We are adopting a new airworthiness directive (AD) for all Harry E. Williams de Havilland Model DH 82A airplanes, all Cliff Robertson de Havilland Model DH 82A airplanes, and all de Havilland Model DH 83 airplanes. This AD requires inspecting the aircraft maintenance records and/or the installed lateral fuselage tie rods and attaching nuts to determine the origin of manufacture. This AD also requires immediately replacing lateral fuselage tie rods and attaching nuts produced by a specific manufacturer. This AD was prompted by reports of structural failure of the attachment of the wing to the fuselage that resulted from failed lateral fuselage tie rods. We are issuing this AD to correct the unsafe condition on these products.

DATES: This AD is effective September 18, 2014.

The Director of the Federal Register approved the incorporation by reference of a certain publication listed in this AD as of September 18, 2014.

We must receive comments on this AD by October 20, 2014.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, for de Havilland DH 82A airplanes, contact de Havilland Support Ltd., Building 213, Duxford Airfield, Cambridge, United Kingdom CB22 4QR, telephone: +44 (0) 1223 830090; fax: +44 (0) 1223 83008; email: info@dhsupport.com, Internet: http://www.dhsupport.com/moth.php.

For service information identified in this AD, for de Havilland DH 83, contact Air Stratus Ltd., Oaksey Park Airfield, Oaksey, Malmesbury, Wiltshite, United Kingdom SN 16 9SD, telephone: +44 (0) 1666 575111; no known Internet address.

You may view this referenced service information at the FAA, Small Airplane Directorate, 901 Locust, Kansas City, Missouri 64016. For information on the availability of this material at the FAA, call (816) 329-4148.

Examining the AD Docket

You may examine the AD docket on the Internet at http://www.regulations.gov by searching for and locating Docket No. FAA-2014-0617; or in person at the Docket Management Facility between 9 a.m. and 5 p.m., Monday through Friday, except Federal holidays. The AD docket contains this AD, the regulatory evaluation, any comments received, and other information. The street address for the Docket Office (phone: 800-647-5527) is in the ADDRESSES section. Comments will be available in the AD docket shortly after receipt.

FOR FURTHER INFORMATION CONTACT: For airplanes covered under Type Certificate Data Sheet (TCDS) A5PC (Model de Havilland DH 82A airplanes built in Australia): Andrew McAnaul, Aerospace Engineer, FAA, Fort Worth Airplane Certification Office, ASW-150 (c/o San Antonio MIDO), 10100 Reunion Place, Suite 650, San Antonio, Texas 78216; phone: (210) 308-3365; fax: (210) 308-3370; email: andrew.mcanaul@faa.gov.

For airplanes covered under TCDS A8EU (Model de Havilland DH 82A airplanes built in the United Kingdom): Fred Guerin, Aerospace Engineer, FAA, Los Angeles Aircraft Certification Office, 3960 Paramount Blvd., Suite 100, Lakewood, California 90712; phone (562) 627-5232; fax: (562) 627-5210; email: fred.guerin@faa.gov.

For airplanes covered under TCDS 2-439 (Model de Havilland DH 83 airplanes built in the United Kingdom): Karl Schletzbaum, Aerospace Engineer, FAA, Small Airplane Directorate, 901 Locust, Room 301, Kansas City, Missouri 64106; phone: (816) 329-4123; fax: (816) 329-4090; email: karl.schletzbaum@faa.gov.

SUPPLEMENTARY INFORMATION:

Discussion

We received a report from the Australia Transportation Safety Board (ASTB) of accident investigation results on a de Havilland Model DH 82A airplane, which had a wing failure in flight. Investigation revealed that both of the accident airplane's fuselage lateral tie rods, which join the lower wings to the fuselage, were found fractured in three of the four threaded sections near the join with the left wing. The failed lateral fuselage tie rods, part number JRA-776-1, were under an Australian parts manufacturing approval (PMA) and were found to have different characteristics than the OEM parts.

Although the defective PMA parts were manufactured in Australia, some airplanes of U.S. registry may have the PMA parts installed.

De Havilland Model DH 82A airplanes (commonly referred to as Tiger Moths) are type certificated under two type certificates. TCDS A5PC, currently held by Harry E. Williams, is for airplanes built in Australia, and TCDS A8EU, currently held by Cliff Robertson, c/o Gadbois Business Management, is for airplanes built in the United Kingdom. This type certification approval was not by validation, but by an acceptance process; as such, the U.S. type certificate holders are not the manufacturers of the airplanes and the original manufacturers (de Havilland and its licensees) are not type certificate holders.

De Havilland Support Ltd (DHSL) holds the type certificate responsibility for de Havilland Model DH 82A airplanes (the type design for TCDS A8EU) in the United Kingdom.

DHSL is custodian of the airframe design data, manufacturing drawings, and repair schemes still in existence for de Havilland Model DH 82A Tiger Moth series airplanes only. In 2012, DHSL entered into a CAA Type Responsibility Agreement (TRA) so that the airplane remains eligible, if required, for an ICAO-compliant Certificate of Airworthiness to facilitate training and pleasure flying.

Similarly, Air Stratus Ltd holds the type certificate responsibility for de Havilland Model DH 83 airplanes (the type design for TCDS 2-439) in the United Kingdom.

The process for making mandatory continuing airworthiness information (MCAI) issued by an aviation authority of another country mandatory for airplanes of U.S. registry is through rulemaking.

This condition, if not corrected, could result in structural failure of the attachment of the wing to the fuselage. We are issuing this AD to correct the unsafe condition on these products.

Relevant Service Information

We reviewed British Aerospace Military Aircraft and Aerostructures BAe Aircraft Bulletin for de Havilland Moth Aircraft, Document Type and Ref No Technical News Sheet CT (Moth) No 29, Issue 3, dated March 1, 1999, which was approved by the Civil Aviation Authority (CAA) for the United Kingdom to ensure the continued airworthiness of these airplanes in the United Kingdom. The service information describes procedures for replacing the lateral tie rods and attaching nuts.

FAA's Determination

We are issuing this AD because we evaluated all the relevant information and determined the unsafe condition described previously is likely to exist or develop in other products of the same type design.

AD Requirements

This AD requires inspecting the aircraft maintenance records and/or the installed lateral fuselage tie rods and attaching nuts to determine if they were produced by J & R Aerospace Pty Ltd. This AD also requires replacing all lateral fuselage tie rods and attaching nuts produced by J & R Aerospace Pty Ltd with airworthy parts.

FAA's Justification and Determination of the Effective Date

An unsafe condition exists that requires the immediate adoption of this AD. The FAA has found that the risk to the flying public justifies waiving notice and comment prior to adoption of this rule because structural failure of the attachment of the wing to the fuselage could result in loss of control. Therefore, we find that notice and opportunity for prior public comment are impracticable and that good cause exists for making this amendment effective in less than 30 days.

Comments Invited

This AD is a final rule that involves requirements affecting flight safety and was not preceded by notice and an opportunity for public comment. However, we invite you to send any written data, views, or arguments about this AD. Send your comments to an address listed under the ADDRESSES section. Include the docket number FAA-2014-0617 and Directorate Identifier 2014-CE-019-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 69 airplanes of U.S. registry.

We estimate the following costs to comply with this AD:

Estimated Costs
Action | Labor cost | Parts cost | Cost per product | Cost on U.S. operators
Inspect the aircraft maintenance records and/or the lateral fuselage tie rod s and attaching nuts to determine the lateral fuselage tie rods and attaching nuts origin of manufacture | 1 work-hour × $85 per hour = $85 | Not applicable | $85 | $5,865

We estimate the following costs to do any necessary replacements that would be required based on the results of the inspection. We have no way of determining the number of airplanes that might need this replacement:

On-Condition Costs
Action | Labor cost | Parts cost | Cost per product
Replace lateral fuselage tie rods and attaching nuts | 30 work-hours × $85 per hour = $2,550 | $825 | $3,375

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-17-09 Harry E. Williams, Cliff Robertson, and de Havilland Airplanes: Amendment 39-17962; Docket No. FAA-2014-0617; Directorate Identifier 2019-CE-019-AD.

(a) Effective Date

This AD is effective September 18, 2014.

(b) Affected ADs

None.

(c) Applicability

This AD applies to Harry E. Williams and Cliff Robertson Model de Havilland DH 82A airplanes, all serial numbers, and de Havilland Model DH 83 airplanes, all serial numbers, certificated in any category.

(d) Subject

Joint Aircraft System Component (JASC)/Air Transport Association (ATA) of America Code 5341, Fuselage, Wing Attach Fittings.

(e) Unsafe Condition

This AD was prompted by reports of structural failure of the attachment of the wing to the fuselage that resulted from failed lateral fuselage tie rods. We are issuing this AD to correct the unsafe condition on these products.

(f) Compliance

Comply with this AD within the compliance times specified in paragraphs (g) through (j) of this AD, unless already done.

(g) Restrict Airplane Operation

(1) As of September 18, 2014 (the effective date of this AD), the airplane is restricted to non-aerobatic flight until the actions required in paragraphs (h)(1) through (i)(1) of this AD are done.

(2) As of September 18, 2014 (the effective date of this AD), before further flight, place a copy of this AD into the Limitations section of the airplane flight manual (AFM).

(h) Determine Manufacture of Installed Lateral Fuselage Tie Rods and Attaching Nuts

Within the next 10 hours time-in-service (TIS) after September 18, 2014 (the effective date of this AD), review the aircraft maintenance records and/or inspect the installed lateral fuselage tie rods and attaching nuts to determine if the lateral fuselage tie rods and attaching nuts were produced by J & R Aerospace Pty Ltd., P/N JRA-776-1 (for de Havilland Model DH 82A airplanes), and P/N JRA-776-3 (for de Havilland Model DH 83 airplanes).

(1) If you are able to positively determine that the installed lateral fuselage tie rods and attaching nuts are not produced by J & R Aerospace Pty Ltd, remove the flight restriction required in paragraph (g) of this AD, and no further action is required by this AD.

(2) If you are not able to positively determine that the installed lateral fuselage tie rods and attaching nuts are not produced by J & R Aerospace Pty Ltd or if you determine that the installed lateral fuselage tie rods and attaching nuts are produced by J & R Aerospace, before further flight, remove and replace the lateral fuselage tie rods and attaching nuts as specified in paragraph (i) of this AD.

(i) Remove and Replace Lateral Fuselage Tie Rods and Attaching Nuts Produced by J & R Aerospace Pty Ltd

(1) Before further flight after making the determination required in paragraph (h)(2) of this AD, remove and destroy the installed lateral fuselage tie rods and attaching nuts and replace the lateral fuselage tie rods and attaching nuts. Replace the lateral tie rods and attaching nuts following the procedures in paragraph 2.C. of the Accomplishment Instructions and using the table on Figure 1 in British Aerospace Military Aircraft and Aerostructures BAe Aircraft Bulletin for De Havilland Moth Aircraft, Document Type and Ref No Technical News Sheet CT (Moth) No 29, Issue 3, dated March 1, 1999.

(2) Before further flight after doing the replacement required in paragraph (i)(1) of this AD, remove the flight restriction required in paragraph (g) of this AD.

(j) Prohibited Installation

As of September 18, 2014 (the effective date of this AD), do not install P/N JRA-776-1 or JRA-776-3 lateral fuselage tie rods manufactured under Australian part manufacture approval (PMA) manufacturer J & R Aerospace Pty Ltd.

(k) Special Flight Permit

Special flight permits are permitted with the following limitations:

(1) No passengers,

(2) Day VRF only,

(3) Straight and level flight, and

(4) Avoid areas of known turbulence.

(l) Alternative Methods of Compliance (AMOCs)

(1) The Manager of the Fort Worth Airplane Certification Office (ACO), the Manager of the Los Angeles Aircraft Certification Office (ACO), and the Manager of the Standards Office, FAA, have the authority to approve AMOCs for their respective products covered by this AD, if requested using the procedures found in 14 CFR 39.19. In accordance with 14 CFR 39.19, send your request to your principal inspector or local Flight Standards District Office, as appropriate. If sending information directly to the manager of the applicable FAA office, send it to the attention of the person identified in paragraph (n).

(2) Before using any approved AMOC, notify your appropriate principal inspector, or lacking a principal inspector, the manager of the local flight standards district office/certificate holding district office.

(m) Related Information

(1) For more information about this AD for airplanes covered under TCDS A5PC (Model de Havilland DH 82A airplanes built in Australia), contact Andrew McAnaul, Aerospace Engineer, FAA, Fort Worth ACO, ASW-150 (c/o San Antonio MIDO), 10100 Reunion Place, Suite 650, San Antonio, Texas 78216; phone: (210) 308-3365; fax: (210) 308-3370; email: andrew.mcanaul@faa.gov.

(2) For more information about this AD for airplanes covered under TCDS A8EU (Model de Havilland DH 82A airplanes built in the United Kingdom), contact Fred Guerin, Aerospace Engineer, FAA, Los Angeles ACO, 3960 Paramount Blvd., Suite 100, Lakewood, California 90712; phone (562) 627-5232; fax: (562) 627-5210; email: fred.guerin@faa.gov.

(3) For more information about this AD for airplanes covered under TCDS 2-439 (Model de Havilland DH 83 airplanes built in the United Kingdom), contact Karl Schletzbaum, Aerospace Engineer, FAA, Small Airplane Directorate, 901 Locust, Room 301, Kansas City, Missouri 64106; telephone: (816) 329-4123; fax: (816) 329-4090; email: karl.schletzbaum@faa.gov

(n) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) British Aerospace Military Aircraft and Aerostructures BAe Aircraft Bulletin for De Havilland Moth Aircraft, Document Type and Ref No Technical News Sheet CT (Moth) No 29, Issue 3, dated March 1, 1999.

(ii) Reserved.

(3) For British Aerospace Military Aircraft and Aerostructures BAe Aircraft Bulletin for De Havilland Moth Aircraft, Technical New Sheet CT (Moth) No 29, Issue 3, dated March 1, 1999, service information identified in this AD, contact:

(i) For de Havilland DH 82A airplanes: de Havilland Support Ltd, Building 213, Duxford Airfield, Cambridge, United Kingdom CB22 4QR, telephone: +44 (0) 1223 830090; fax: +44 (0) 1223 83008; email: info@dhsupport.com, Internet: http://www.dhsupport.com/moth.php.

(ii) For de Havilland DH 83 airplanes: Air Stratus Ltd., Oaksey Park Airfield, Oaksey, Malmesbury, Wiltshite, United Kingdom SN 16 9SD, telephone: +44 (0) 1666 575111; no known Internet address.

(4) You may view this service information at FAA, Small Airplane Directorate, 901 Locust, Kansas City, Missouri 64016. For information on the availability of this material at the FAA, call (816) 329-4148.

(5) You may view this service information that is incorporated by reference at the National Archives and Records Administration (NARA). For information on the availability of this material at NARA, call 202-741-6030, or go to: http://www.archives.gov/federal-register/cfr/ibr-locations.html.

Issued in Kansas City, Missouri, on August 19, 2014.
Earl Lawrence,
Manager, Small Airplane Directorate, Aircraft Certification Service.

[FR Doc. 2014-20241 Filed 9-2-14; 8:45 am]

BILLING CODE 4910-13-P